DEPARTMENT OF ENERGY

Federal Energy Regulatory Commission

[Project No. 13511-001]

Igiugig Village Council; Notice of Successive Preliminary Permit Application Accepted for Filing and Soliciting Comments, Motions To Intervene, and Competing Applications

On October 1, 2012, Igiugig Village Council (IVC) filed an application for a successive preliminary permit, pursuant to section 4(f) of the Federal Power Act, proposing to study the feasibility of the Igiugig RISEC Water Power Project (Igiugig Project or project), to be located on the Kvichak River in the Lake and Peninsula Borough, Alaska. The sole purpose of a preliminary permit, if issued, is to grant the permit holder priority to file a license application during the permit term. A preliminary permit does not authorize the permit holder to perform any land disturbing activities or otherwise enter upon lands or waters owned by others without the owners' express permission.

The proposed project would consist of the following: (1) Up to 8 proposed RISEC kinetic energy-to-electrical energy conversion devices having a total installed capacity of 40 kilowatts; (2) a proposed transmission line that will either connect directly to the IVC diesel power plant or a 1,000-foot-long transmission line interconnecting with the Iguigig Village electric distribution system (depending on the location of the RISEC devices); and (3) appurtenant facilities. The proposed project would have an estimated average annual generation of 250 megawatt-hours.

Applicant Contact: AlexAnna Salmon, Iguigig Village Administrator, P.O. Box 4008, Iguigig, AK 99613; phone: (907) 533-3211.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13511) in the docket number field to access the document. For assistance, contact FERC Online Support.

Dated: November 5, 2012.
Kimberly D. Bose,
Secretary.

[FR Doc. 2012-27409 Filed 11-8-12; 8:45 am]

BILLING CODE 6717-01-P